DEPARTMENT OF AGRICULTURE

Agricultural Marketing Service

7 CFR Parts 1000, 1001, 1005, 1006, 1007, 1030, 1032, 1033, 1124, 1126, 1131, and 1135

[Docket No. AO-14-A72, et al.; DA-03-08]

Milk in the Northeast and Other Marketing Areas; Notice of Hearing on Proposed Amendments to Tentative Marketing Agreements and Orders; Correction

7 CFR Part | Marketing Area | AO Nos.
1001 | Northeast | AO-14-A72
1005 | Appalachian | AO-388-A13
1006 | Florida | AO-356-A36
1007 | Southeast | AO-366-A42
1030 | Upper Midwest | AO-361-A37
1032 | Central | AO-313-A46
1033 | Mideast | AO-166-A70
1124 | Pacific Northwest | AO-368-A33
1126 | Southwest | AO-231-A66
1131 | Arizona-Las Vegas | AO-271-A38
1135 | Western | AO-380-A20

AGENCY: Agricultural Marketing Service, USDA.

ACTION: Proposed rule; correction.

SUMMARY: The Agricultural Marketing Service is correcting the proposed rule that appeared in the Federal Register on September 8, 2003 (68 FR 52860), which gave notice of a public hearing to be held to consider proposals to amend the Northeast and other Federal milk marketing orders. The document was published with errors in the regulatory text of proposed amendments to § 1000.40 that would reclassify milk used to produce evaporated or sweetened condensed milk in a consumer-type package from Class III to Class IV. This docket corrects these errors.

FOR FURTHER INFORMATION CONTACT: Antoinette M. Carter, Marketing Specialist, Order Formulation and Enforcement, USDA/AMS/Dairy Programs, Room 2971—Stop 0231, 1400 Independence Avenue, SW., Washington, DC 20250-0231, (202) 690-3465, e-mail address: Antoinette.Carter@usda.gov.

SUPPLEMENTARY INFORMATION: A notice of hearing was published in the Federal Register on September 8, 2003 (68 FR 52860), containing four proposals to be considered at a public hearing scheduled to begin on October 21, 2003. As published, the regulatory text included in proposals one and two of the notice of hearing does not reflect amendments that became effective April 1, 2003, in all 11 Federal milk marketing orders revising the Class III and Class IV pricing formulas. Accordingly, the errors contained in proposals one and two of the notice of hearing are misleading and need clarification.

1. On page 52862 under “Proposal No. 1”, first column, § 1000.40, paragraph (d)(1)(i) is corrected to read as follows:

§ 1000.40 Classes of utilization.

* * * * *

(d) * * *

(1) * * *

(i) Butter;

* * * * *

2. On page 52862 under “Proposal No. 2”, first column, § 1000.40, paragraph (d)(1)(i) is corrected to read as follows:

§ 1000.40 Classes of utilization.

* * * * *

(d) * * *

(1) * * *

(i) Butter;

* * * * *

Authority: 7 U.S.C. 601-674.

Dated: October 9, 2003.
A.J. Yates,
Administrator, Agricultural Marketing Service.

[FR Doc. 03-26178 Filed 10-15-03; 8:45 am]

BILLING CODE 3410-02-P